DEPARTMENT OF DEFENSE

Department of the Navy

Notice of Intent To Grant Exclusive Patent License: Haleakala R&D, Inc.

AGENCY: Department of the Navy, DOD.

ACTION: Special notice.

SUMMARY: The Department of the Navy hereby gives notice of its intent to grant to Haleakala R&D, Inc. a revocable, nonassignable, partially exclusive license to practice throughout the United States the Government-owned inventions described in U.S. Patent No. 6,806,833: CONFINED PLASMA RESONANCE ANTENNA AND PLASMA RESONANCE ANTENNA ARRAY; U.S. Patent No. 6,674,970: PLASMA ANTENNA WITH TWO-FLUID IONIZATION CURRENT; U.S. Patent No. 6,657,594: PLASMA ANTENNA SYSTEM AND METHOD; U.S. Patent No. 6,650,297: LASER DRIVEN PLASMA ANTENNA UTILIZING LASER MODIFIED MAXWELLIAN RELAXATION; U.S. Patent No. 6,169,520: PLASMA ANTENNA WITH CURRENTS GENERATED BY OPPOSED PHOTON BEAMS; U.S. Patent No. 6,087,993: PLASMA ANTENNA WITH ELECTRO-OPTICAL MODULATOR; U.S. Patent No. 6,046,705: STANDING WAVE PLASMA ANTENNA WITH PLASMA REFLECTOR; U.S. Patent No. 6,118,407: HORIZONTAL PLASMA 6,087,992: ACOUSTICALLY DRIVEN PLASMA ANTENNA; and, U.S. Patent No. 5,963,169: MULTIPLE TUBE PLASMA ANTENNA.

DATES: Anyone wishing to object to the grant of this license has fifteen (15) days from the date of this notice to file written objections along with supporting evidence, if any.

ADDRESSES: Written objections are to be filed with the Naval Undersea Warfare Center Division, Newport, 1176 Howell St., Bldg. 990, Code 07TP, Newport, RI 02841.

FOR FURTHER INFORMATION CONTACT: Dr. Theresa A. Baus, Head, Technology Partnership Enterprise Office, Naval Undersea Warfare Center Division, Newport, 1176 Howell St., Bldg. 990, Code 07TP, Newport, RI 02841, telephone 401-832-8728, or e-mail theresa.baus@navy.mil.

Authority: 35 U.S.C. 207, 37 CFR part 404.

Dated: August 19, 2009.
A.M. Vallandingham,
Lieutenant Commander, Judge Advocate General's Corps, U.S. Navy, Federal Register Liaison Officer.

[FR Doc. E9-20609 Filed 8-26-09; 8:45 am]

BILLING CODE 3810-FF-P